DEPARTMENT OF TRANSPORTATION

Maritime Administration

Marine Transportation System National Advisory Council

ACTION: National Advisory Council Public Meeting.

SUMMARY: The Maritime Administration announces that the Marine Transportation System National Advisory Council (MTSNAC) will hold a meeting to discuss MTS needs, regional MTS outreach and education initiatives, and other issues. A public comment period is scheduled for 8:30 a.m. to 9 a.m. on Friday, March 24, 2006. To provide time for as many people to speak as possible, speaking time for each individual will be limited to three minutes. Members of the public who would like to speak are asked to contact Richard J. Lolich by March 16, 2006. Commenters will be placed on the agenda in the order in which notifications are received. If time allows, additional comments will be permitted. Copies of oral comments must be submitted in writing at the meeting. Additional written comments are welcome and must be filed by March 31, 2006.

DATES: The meeting will be held on Thursday, March 23, 2006, from 1 p.m. to 5 p.m. and Friday, March 24, 2006, from 8:30 a.m. to 3 p.m.

ADDRESSES: The meeting will be held in the Windsor Court Hotel, 300 Gravier Street, New Orleans, LA 70130. The hotel's phone number is 888-596-0955.

FOR FURTHER INFORMATION CONTACT: Richard Lolich, (202) 366-4357; Maritime Administration, MAR-830, Room 7201, 400 Seventh St., SW., Washington, DC 20590; richard.lolich@dot.gov.

(Authority: 5 U.S.C. App 2, Sec. 9(a)(2); 41 CFR 101-6. 1005; DOT Order 1120.3B)
Dated: March 1, 2006.
Joel C. Richard,
Secretary, Maritime Administration.

[FR Doc. E6-3151 Filed 3-6-06; 8:45 am]

BILLING CODE 4910-81-P